ENVIRONMENTAL PROTECTION AGENCY

[Docket ID Nos. OAR-2002-0041 and OAR-2002-0036; AD-FRL-7406-4]

RIN 2060-AK34

National Emission Standards for Hazardous Air Pollutants: Revision of Source Category List for Standards Under Section 112(c)(6) and 112(k) of the Clean Air Act

AGENCY: Environmental Protection Agency (EPA).

ACTION: Notice of revisions to the area source category list and inventory.

SUMMARY: This notice removes five area source categories of hazardous air pollutants (HAP) (i.e., asphalt hot-mix production, fabricated metal products, paint and allied products, paper coated and laminated, packaging and transportation equipment manufacturing) from the list developed under section 112(c)(6) of the Clean Air Act (CAA). It also removes an additional area source category, Open Burning of Scrap Tires, from the anthropogenic stationary source categories included in the inventory analysis for section 112(c)(6) and 112(k). Consequently, that source category will no longer be a candidate for regulation under either section 112(c)(6) or 112(k). The revisions in this notice have not been reflected in any previous notices and are being made without public comment on the Administrator's own motion. Such revisions are deemed by EPA to be without need for public comment based on the nature of the actions.

EFFECTIVE DATE: November 8, 2002.

ADDRESSES: The official public docket is the collection of materials that is available for public viewing at the EPA Docket Center, (EPA/DC) EPA West, Room B102, 1301 Constitution Ave., NW., Washington, DC.

FOR FURTHER INFORMATION CONTACT: Ms. Barbara B. Driscoll, Policy, Planning and Standards Group, Emission Standards Division (MD-C439-04), U.S. EPA, Research Triangle Park, North Carolina 27711, facsimile number (919) 541-0942, telephone number (919) 541-1051, electronic mail (e-mail): driscoll.barbara@epa.gov.

SUPPLEMENTARY INFORMATION:

Docket

The EPA has established an official public docket for this action under the Docket ID Nos. OAR-2002-0041 and OAR-2002-0036. The official public docket consists of the documents specifically referenced in this action, any public comments received and other information related to this action. Although a part of the official docket, the public docket does not include Confidential Business Information (CBI) or other information whose disclosure is restricted by statute. The EPA Docket Center Public Reading Room is open from 8:30 a.m. to 4:30 p.m., Monday through Friday, excluding legal holidays. The telephone number for the Reading Room is (202) 566-1744, and the telephone number for the Docket is (202) 566-1742. A reasonable fee may be charged for copying docket materials.

Electronic Access

You may access this Federal Register document electronically through the EPA Internet under the “Federal Register” listings at http://www.epa.gov/fedrgstr/. An electronic version of the public docket is available through EPA's electronic public docket and comment system, EPA Dockets. You may use EPA Dockets at http://www.epa.gov/edocket/ to view public comments, access the index listing of the contents of the official public docket, and to access those documents in the public docket that are available electronically. Although not all docket materials may be available electronically, you may still access any of the publicly available docket materials through the docket facility identified in this document. Once in the system, select “search,” then key in the appropriate docket identification.

Worldwide Web (WWW)

In addition to being available in the docket, an electronic copy of today's notice will also be available on the WWW through the Technology Transfer Network (TTN). Following signature, a copy of the notice will be posted on the TTN's policy and guidance page for newly proposed or promulgated rules, http://www.epa.gov/ttn/oarpg. The TTN provides information and technology exchange in various areas of air pollution control. If more information regarding the TTN is needed, call the TTN HELP line at (919) 541-5384.

I. Revisions to the Section 112(c)(6) Source Category List

A. What Is the History of the Source Category List for the Seven HAP Specified Under Section 112(c)(6)?

Section 112(c)(6) of the CAA instructs us to list categories and subcategories of sources to assure that sources accounting for not less than 90 percent of the aggregated emissions of each of seven specific HAP (alkylated lead compounds, polycyclic organic matter (POM), hexachlorobenzene (HCB), mercury, polychlorinated biphenyls, 2,3,7,8-tetrachlorodibenzofurans (TCDF) and 2,3,7,8-tetrachlorodibenzo-p-dioxin (TCDD)) are subject to standards under section 112(d)(2) or (d)(4). The EPA published a list of categories for section 112(d)(2) rulemaking pursuant to section 112(c)(6) on April 10, 1998 (63 FR 17838). In the April 1998 Federal Register notice, we provided a summary table of 1990 emissions inventory data for known sources of the seven specific HAP titled “Summary of 1990 Emission Inventory Data for Section 112(c)(6) Pollutants (tons/yr).” Emissions inventories consist of estimates of annual emissions to the air from all the sources for which data are available such as power plants, chemical plants, automobiles, and wildfires. Using these inventory data, we identified the sources of the total emissions of these seven HAP. However, we did not further evaluate certain types of sources that are not considered appropriate for section 112 regulation. The sources excluded from further evaluation are wildfires and prescribed burning, mobile sources (cars, airplanes, etc.), residential combustion sources (fireplaces, woodstoves, oil and coal heaters), pesticide application, cigarette smoke, utility boilers, gasoline distribution stage II (evaporative emissions from gas stations), and consumer products usage.

The April 1998 Federal Register notice also contains a table of source categories subject to regulation which is titled “1990 Anthropogenic Stationary Source Category Percentage Contributions and Associated Regulations.” This table provides the individual percentage contributions for each source category toward the total 1990 anthropogenic stationary source emissions of each of the seven HAP. The table also lists any associated regulation for each source category. A review of the available data indicated that a substantial majority of source categories emitting the seven HAP had already been listed for regulation under section 112(d)(2) of the CAA or were subject to substantively equivalent regulation under other CAA authorities. Consequently, in April 1998, we listed only two additional source categories in response to the requirements in section 112(c)(6) to ensure that sources accounting for not less than 90 percent of the emissions of the seven HAP had been targeted for regulation. These were Open Burning of Scrap Tires and Gasoline Distribution (Aviation Fuel), which includes evaporative losses associated with the distribution and storage of aviation gasoline containing lead.

In addition to these two new source categories, EPA's list of categories subject to regulation in the April 1998 notice included both the major and area source components of many source categories for which we had not yet promulgated a section 112(d) regulation. We stated that:

When the regulations for each of those categories are developed, EPA will analyze the data specific to those sources and determine, under section 112(d), in what manner requirements will be established. Some area categories may be negligible contributors to the 90 percent goal, and as such pose unwarranted burdens for subjecting to standards. These trivial source categories will be removed from the listing as they are evaluated since they will not contribute significantly to the 90 percent goal. (63 FR 17841)

B. Why Is EPA Revising the Section 112(c)(6) List?

This notice announces the removal of five area source categories, all of which are emission sources of POM, from the air toxics source category list identified in the April 1998 Federal Register notice (63 FR 17838). We are also removing an additional area source category, Open Burning of Scrap Tires, an emission source of POM, from the anthropogenic stationary source categories considered in the section 112(c)(6) inventory analysis. Consequently, Open Burning of Scrap Tires will no longer be a candidate for regulation under section 112(c)(6). With these changes, EPA is still able to meet the requirement to list categories and subcategories of sources to assure that sources accounting for not less than 90 percent of the aggregated emissions of each of seven HAP specified in section 112(c)(6) are subject to standards.

Specifically, we have determined that the following five area source categories of POM are not needed to achieve the statutory requirement to subject to standards those sources accounting for 90 percent of the aggregated emissions of POM: Asphalt Hot-Mix Production; Fabricated Metal Products; Paint and Allied Products; Paper Coated and Laminated, Packaging; and Transportation Equipment Manufacturing. This is because we now include the area source contribution of Gasoline Distribution (Stage 1) toward the 90 percent requirement for POM. We included this category as a candidate for listing in the April 1998 notice, but at that time it was not counted toward the 90 percent requirement since we had not yet determined whether we would develop regulations for the area source component of Gasoline Distribution (Stage 1). Subsequently, we added this category to the list of area source categories for regulation under a July 1999 Federal Register notice for the Integrated Urban Air Toxics Strategy (64 FR 38706) and, therefore, now list it as a source category subject to regulation under section 112(c)(6).

We are removing a seventh area source category of POM, Open Burning of Scrap Tires, from the list of anthropogenic stationary source categories subject to section 112(c)(6) inventory analysis; consequently it is no longer a candidate for regulation under section 112(c)(6). For reasons similar to our rationale for exclusion of a number of other source categories (e.g., wildfires), we do not consider Open Burning of Scrap Tires to be a source category appropriate for regulation under section 112 of the CAA. Open burning of scrap tires is generally a result of arson, accident, or lightning. There is no business or industry that uses open burning of scrap tires. Moreover, this activity is already banned in all 50 States either through State statute or under health and public safety codes.

For the section 112(c)(6) inventory analysis, we used three surrogates for POM which are described in the April 1998 Federal Register notice (63 FR 17845). These are: (1) Extractable organic matter (EOM), (2) the sum of the seven polynuclear aromatic hydrocarbon (PAH) compounds that are probable human carcinogens (7-PAH), and (3) the sum of the sixteen polynuclear aromatic hydrocarbon compounds measured in EPA test method 610 (16-PAH). The area source category revisions in this notice impact the section 112(c)(6) analysis for two of these POM surrogates: 7-PAH and 16-PAH.

Because the area source category of Open Burning of Scrap Tires was estimated to represent 294 tons per year of 16-PAH in 1990, we removed this tonnage from the total 1990 emissions of 16-PAH subject to section 112(c)(6) analysis. Similarly, because Open Burning of Scrap Tires was estimated to contribute 52.5 tons per year of 7-PAH in 1990, we removed this tonnage from the total 1990 emissions of 7-PAH subject to section 112(c)(6) analysis.

Table 1 of this notice provides an updated summary based on the changes described in this notice of the source categories that emit 16-PAH and the percentage of 1990 emissions attributable to each category. Table 2 of this notice provides the same information for source categories that emit 7-PAH. In both Tables 1 and 2, we list the area and major source emissions contributions for each source category separately to show the relative contributions. For 16-PAH, Table 1 reflects an update of major versus area source contributions to emissions for two source categories: Primary Aluminum Production and Blast Furnaces and Steel Mills. For 7-PAH, Table 2 reflects an update of the major versus area source emissions contributions for Primary Aluminum Production. Table 3 of this notice contains the revised emissions contributions as a result of the updates to the major and area source contributions for each of these source categories. The update reflects that both Primary Aluminum Production and Blast Furnaces and Steel Mills are source categories consisting of 100 percent major sources.

Consistent with the discussion in the October 18, 2000 Federal Register notice on the National Emission Standards for Hazardous Air Pollutants: Rubber Tire Manufacturing (65 FR 62414), Table 2 in today's notice reflects the removal of the source category and POM emissions (7 tons in the form of 16-PAH) from Tire Manufacturing. This is because the POM emissions from this source category are due to combustion associated with the use of steam boilers in the rubber tire manufacturing process. We believe that these emissions are already accounted for under the POM (16-PAH) emission estimates for boilers.

In Tables 1 and 2 of this notice, we sum the percentage contributions for each pollutant to show the total emissions of 16-PAH and 7-PAH subject to standards. For 16-PAH, the total is 92.2 percent (of 8,404.69 tons per year) and for 7-PAH, it is 99.1 percent (of 314.4 tons per year).

II. Revisions to the Section 112(k) Area Source Category Inventory

A. What Is the History of the Emissions Inventory Development for POM Under Section 112(k)?

As discussed in the July 19, 1999 Federal Register notice on the National Air Toxics Program: The Integrated Urban Strategy (64 FR 38706), section 112(k)(3)(B) of the CAA requires us to identify not less than 30 HAP that are estimated to pose the greatest threat to public health in the largest number of urban areas as a result of emissions from area sources. The EPA's list of area source HAP includes POM. For the evaluation of POM as a potential public health threat in urban areas, and for the subsequent source category analysis, we used 7-PAH as a surrogate for the much larger, more complex and diverse mixture of POM.

Under section 112(k), we are required to identify sufficient area source categories to assure that sources accounting for 90 percent or more of the aggregate emissions of each of the 30 identified HAP are subject to standards under section 112(d). In determining the aggregate area source emissions of 7-PAH, EPA considered area source categories that were subject to existing standards, or which were expected to be subject to standards based on their inclusion in the existing regulatory agenda for area source categories. Since Open Burning of Scrap Tires was identified in the April 1998 Federal Register notice for section 112(c)(6) as an area source category we intended to regulate, we included it as a category for regulation under section 112(k) and counted its emissions of 7-PAH toward the total subject to the 90 percent requirement.

B. Why Is EPA Removing Open Burning of Scrap Tires From the Section 112(k) Inventory of Area Sources?

As previously discussed in today's notice, we do not consider Open Burning of Scrap Tires to be a source category appropriate for regulation under section 112 of the CAA. Therefore, it is no longer a candidate for regulation under section 112(k).

Because the area source category of Open Burning of Scrap Tires was estimated to contribute 45.5 tons per year of 7-PAH in urban areas in 1990, we removed this tonnage from the total 1990 emissions of 7-PAH subject to the section 112(k) area source category analysis. The effect of this change in the area source categories being listed under section 112(k) will be addressed in a future Federal Register notice.

III. Administrative Requirements

Today's notice is not a rule; it is essentially an information-sharing activity which does not impose regulatory requirements or costs. Therefore, the requirements of Executive Order 13045 (Protection of Children from Environmental Health Risks and Safety Risks), Executive Order 13175 (Consultation and Coordination with Indian Tribal Governments), Executive Order 13132 (Federalism), Executive Order 13211 (Actions Concerning Regulations that Significantly Affect Energy Supply, Distribution, or Use), the Regulatory Flexibility Act, the National Technology Transfer and Advancement Act, and the Unfunded Mandates Reform Act do not apply to today's notice. Also, this notice does not contain any information collection requirements and, therefore, is not subject to the Paperwork Reduction Act, 44 U.S.C. 3501 et seq.Under Executive Order 12866 (58 FR 51735, October 4, 1993), a regulatory action determined to be “significant” is subject to the Office of Management and Budget (OMB) review and the requirements of the Executive Order. The Executive Order defines “significant” regulatory action as one that is likely to lead to a rule that may either

(1) Have an annual effect on the economy of $100 million or more, or adversely affect a sector of the economy, productivity, competition, jobs, the environment, public health or safety, or State, local or tribal governments or communities;

(2) Create a serious inconsistency or otherwise interfere with an action taken or planned by another agency;

(3) Materially alter the budgetary impact of entitlements, grants, user fees, or loan programs or the rights and obligations of recipients thereof; or

(4) Raise novel legal or policy issues arising out of legal mandates, the President's priorities, or the principles set forth in the Executive Order. The OMB has determined that this action is not significant under the terms of Executive Order 12866.

Dated: November 4, 2002.
Robert Brenner,
Acting Assistant Administrator for Air and Radiation.

Table 1.—1990 Anthropogenic Stationary Source Category Emissions (Tons/Year) and Percentage Contributions of 16-PAH
Source category | Area emissions | Major emissions | Percentage of emissions | Cumulative percent
Aerospace Industry (Surface Coating) |  | 1.64e+03 | 19.51 | 19.5
Petroleum Refining: All Processes |  | 1.07e+03 | 12.77 | 32.3
Primary Aluminum Production |  | 6.62e+03 | 7.88 | 40.2
Pulp and Paper Kraft Recovery Furnaces |  | 6.49e+02 | 7.72 | 47.9
Coke Ovens: Charging, Topside & Door Leaks |  | 5.39e+02 | 6.41 | 54.3
Coke Ovens: Pushing, Quenching & Battery Stack |  | 5.17e+02 | 6.15 | 60.4
Blast Furnace and Steel Mills |  | 4.99e+02 | 5.94 | 66.4
Industrial Organic Chemicals Manufacturing |  | 2.23e+02 | 2.65 | 69.0
Pulp and Paper— Lime Kilns |  | 1.83e+02 | 2.18 | 71.2
Industrial Coal Combustion |  | 1.10e+02 | 1.31 | 72.5
Plastic Foam Products Manufacturing |  | 1.08e+02 | 1.29 | 73.8
Fabricated Metals Products |  | 1.07e+02 | 1.28 | 75.1
Chemical Manufacturing: Cyclic Crude and Intermediate Production |  | 1.01e+02 | 1.20 | 76.3
Coke Ovens: By-Product Recovery Plants |  | 7.78e+01 | 0.93 | 77.2
Industrial Wood/Wood Residue Combustion |  | 5.50e+01 | 0.65 | 77.9
Paper Coated and Laminated, Packaging |  | 5.43e+01 | 0.65 | 78.5
Napthalene Production |  | 4.52e+01 | 0.54 | 79.5
Portland Cement Manufacture: Non-Hazardous Waste Kilns |  | 3.83e+01 | 0.46 | 79.9
Transportation Equipment Manufacturing (SICs combined) |  | 3.87e+01 | 0.46 | 80.4
Asphalt Roofing Production |  | 3.72e+01 | 0.44 | 80.8
Secondary Lead Smelting |  | 3.64e+01 | 0.43 | 81.2
Industrial Oil Combustion |  | 3.56e+01 | 0.42 | 81.7
Gasoline Distribution (Stage 1) |  | 3.55e+01 | 0.42 | 82.1
Commercial Coal Combustion |  | 3.45e+01 | 0.41 | 78.9
Commercial Printing, Gravure |  | 2.87e+01 | 0.34 | 82.8
Industrial Stationary IC Engines: Natural Gas |  | 2.86e+01 | 0.34 | 82.8
Paints and Allied Products |  | 2.37e+01 | 0.28 | 83.1
Phthalic Anhydride Production |  | 1.83e+01 | 0.22 | 83.3
(Surface Coating) Ship Building and Repair |  | 1.36e+01 | 0.16 | 83.4
Wood Household Furniture Manufacturing |  | 1.11e+01 | 0.13 | 83.6
Commercial Oil Combustion |  | 1.07e+01 | 0.13 | 83.7
Portland Cement Manufacturing: Hazardous Waste Kilns |  | 1.26e+01 | 0.15 | 83.8
Commercial Wood/Wood Residue Combustion |  | 7.16e+00 | 0.09 | 83.9
Industrial Stationary IC Engines: Diesel |  | 3.51e+00 | 0.04 | 84.0
Chloroalkali Production |  | 1.36e+00 | 0.02 | 84.0
AREA SOURCES
Gasoline Distribution (Stage 1) | 3.20e+02 |  | 3.80 | 87.8
Commercial Coal Combustion | 1.38e+02 |  | 1.64 | 89.4
Industrial Coal Combustion | 4.71e+01 |  | 0.56 | 90.9
Commercial Oil Combustion | 4.26e+01 |  | 0.51 | 89.9
Secondary Lead Smelting | 3.36e+01 |  | 0.40 | 90.3
Commercial Wood/Wood Residue Combustion | 2.86e+01 |  | 0.34 | 91.2
Napthalene Production | 1.94e+01 |  | 0.23 | 91.5
Industrial Stationary IC Engines: Natural Gas | 1.90e+01 |  | 0.23 | 91.7
Industrial Oil Combustion | 1.53e+01 |  | 0.18 | 91.9
Industrial Wood/Wood Residue Combustion | 1.38e+01 |  | 0.16 | 92.0
Phthalic Anhydride Production | 7.86e+00 |  | 0.09 | 92.1
Chloroalkali Production | 3.16e+00 |  | 0.04 | 92.2
Chemical Manufacturing: Cyclic Crude and Intermediate Production | 3.20e+00 |  | 0.04 | 92.2
Plastic Foam Products Manufacturing | 1.56e+00 |  | 0.02 | 92.2
Industrial Stationary IC Engines: Diesel | 1.51e+00 |  | 0.02 | 92.2
Total: | 694 | 7060 |  |

Table 2.—1990 Anthropogenic Stationary Source Category Emissions (Tons/Year) and Percentage Contributions of 7-PAH
Source category | Area emissions | Major emissions | Percentage of emissions | Cumulative percent
Primary Aluminum Production |  | 1.41e+02 | 44.85 | 44.8
Coke Ovens: Charging, Topside & Door Leaks |  | 7.18e+01 | 22.84 | 67.7
Coke Ovens: Pushing, Quenching & Battery Stacks |  | 3.01e+01 | 9.57 | 77.3
Petroleum Refining: All Processes |  | 1.60e+01 | 5.09 | 82.3
Commercial Coal Combustion |  | 7.20e+00 | 2.29 | 84.6
Pulp and Paper: Kraft Recovery Furnaces |  | 3.74e+00 | 1.19 | 85.8
Industrial Coal Combustion |  | 2.16e+00 | 0.69 | 88.8
Portland Cement Manufacturing: Non-Hazardous Waste Kilns |  | 2.08e+00 | 0.66 | 86.5
Portland Cement Manufacturing: Hazardous Waste Kilns |  | 2.08e+00 | 0.66 | 87.1
Asphalt Roofing Production |  | 1.43e+00 | 0.46 | 87.6
Industrial Wood/Wood Residue |  | 9.68e-01 | 0.31 | 87.9
Industrial Stationary IC Engines: Natural Gas |  | 6.18e−01 | 0.20 | 88.1
Pulp and Paper: Lime Kilns |  | 2.50e−01 | 0.08 | 88.9
Commercial Wood/Wood Residue |  | 2.02e−01 | 0.06 | 88.9
Industrial Stationary IC Engines: Diesel |  | 6.25e−02 | 0.02 | 89.0
Industrial Oil Combustion |  | 2.10e−02 | 0.01 | 89.0
AREA SOURCES
Commercial Coal Combustion | 2.88e+01 |  | 9.16 | 98.1
Industrial Coal Combustion | 9.27e−01 |  | 0.29 | 98.7
Commercial Wood/Wood Residue Combustion | 8.08e−01 |  | 0.26 | 98.4
Portland Cement Manufacturing: Non-Hazardous Waste Kilns | 5.20e−01 |  | 0.17 | 98.8
Industrial Stationary IC Engines: Natural Gas | 4.12e−01 |  | 0.13 | 99.0
Industrial Wood/Wood Residue Combustion | 2.42e−01 |  | 0.08 | 99.1
Industrial Stationary IC Engines: Diesel | 2.68e−02 |  | 0.01 | 99.1
Commercial Oil Combustion | 2.40e−02 |  | 0.01 | 99.1
Total: | 31.8 | 280 |  |

Table 3.—Revised Major/Area Source Distributions of 1990 Emissions
Source category | Major source contributions, percent | Area source contribution, percent
Blast Furnace and Steel Mills | 100 | 0
Primary Aluminum Production | 100 | 0

[FR Doc. 02-28502 Filed 11-7-02; 8:45 am]

BILLING CODE 6560-50-P